NUCLEAR REGULATORY COMMISSION

[Docket No. 30-30429; NRC-2023-0202]

ProTechnics, a Division of Core Laboratories LP; Discharge of Radioactive Tracers in Well Completion Fluids

AGENCY: Nuclear Regulatory Commission.

ACTION: Environmental assessment and finding of no significant impact; issuance.

SUMMARY: The U.S. Nuclear Regulatory Commission (NRC) is issuing a finding of no significant impact (FONSI) and accompanying environmental assessment (EA) for a license amendment request from ProTechnics, a division of Core Laboratories LP (ProTechnics), byproduct material license no. 42-26928-01, to authorize discharge of well completion fluids containing very small amounts of short-lived radioactive tracers in offshore waters in the U.S. Outer Continental Shelf (OCS) of the Gulf of Mexico (GOM). Based on the analysis in the EA, the NRC staff has concluded that there would be no significant impacts on the quality of the human environment from ProTechnics' proposed license amendment request, and therefore, a FONSI is appropriate.

DATES: The EA and FONSI referenced in this document are available on December 7, 2023.

ADDRESSES: Please refer to Docket ID NRC-2023-0202 when contacting the NRC about the availability of information regarding this document. You may obtain publicly available information related to this document using any of the following methods:

• Federal Rulemaking Website: Go to https://www.regulations.gov and search for Docket ID NRC-2023-0202. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jean Trefethen, Office of Nuclear Material Safety and Safeguards, U.S. Nuclear Regulatory Commission, Washington, DC 20555-0001, telephone: 301-415-0867; email: Jean.Trefethen@nrc.gov.

SUPPLEMENTARY INFORMATION:

I. Introduction

The NRC is considering a license application request from ProTechnics to authorize discharge of well completion fluids containing very small amounts of short-lived radioactive tracers in offshore waters in the OCS of the GOM. In its license amendment request, ProTechnics stated that, in connection with well logging in the GOM, it performs single well subsurface tracer studies in established oil and gas production basins located in OCS waters. In general, all of the material that enters the formation would be retained behind a screen mesh. Only the material remaining on the well bore side of the screen mesh would be returned to the surface (ADAMS Accession Nos. ML22325A156 and ML23009B762). As required by section 51.21 of title 10 of the Code of Federal Regulations (10 CFR), and in light of ProTechnics' license amendment request, the NRC staff prepared an EA that documents its independent evaluation of the potential environmental impacts of the disposal of short-lived radioactive tracers in the offshore waters. Based on the analysis in the EA, the NRC staff has concluded that there would be no significant impacts on the quality of the human environment from ProTechnics' proposed disposal methods, and therefore, the NRC is issuing a FONSI.

II. Summary of Environmental Assessment

Description of the Proposed Action

ProTechnics is seeking a license amendment to authorize discharge of well completion fluids containing very small amounts of short-lived radioactive tracers in offshore waters in the OCS of the GOM.

Environmental Impacts of the Proposed Action

The NRC staff has assessed the potential environmental impacts from ProTechnics' disposal of short-lived radioactive tracers in the offshore waters of the GOM. The NRC staff expect the radioactive tracer beads to remain chemically inert in the GOM seawater, due to the ceramic coating on the beads. Thus, the embedded radioactive metal particles would not dissolve or leach out of the beads to combine with the seawater. Data to support this conclusion was provided with ProTechnics' license amendment request. Additionally, the radioisotopes used have a short half-life (70 to 84 days) and therefore, would decay in a short period of time.

Environmental Impacts of the Alternatives to the Proposed Action

An alternative to the proposed action is the no-action alternative. Under the no-action alternative, the NRC would not grant ProTechnics' license amendment request for disposal of limited concentrations of short-lived radioactive tracers into offshore waters of the OCS in the GOM. In order for ProTechnics to continue supporting oil and gas drilling operations in the OCS of the GOM, it would need a license amendment to authorize retention of the tracer materials on the drilling rigs or support vessels. The retained well completion fluids containing the tracer materials would need to be transported to shore for transfer to an authorized disposal facility. The NRC staff considers that transfer and movement of the well completion fluids containing tracer material would present an increased likelihood of accidents and an increased potential for occupational and public radiological doses in comparison to the proposed action.

Agencies and Person Consulted

The NRC staff consulted with National Oceanic and Atmospheric Administration (NOAA) Fisheries regarding its determination that the proposed action is not likely to adversely affect listed species or habitats. By email dated November 17, 2023, NOAA Fisheries concurred with the NRC staff's determination. Therefore, no further consultation is required under Section 7 of the Endangered Species Act of 1973, as amended. Further, the NRC staff determined that the proposed action is not the type of activity that has the potential to cause effects on historic properties. Therefore, consistent with 36 CFR 800.3(a)(1), no consultation is required under Section 106 of the National Historic Preservation Act.

III. Finding of No Significant Impact

The final EA is available in ADAMS under Accession No. ML23334A173.

Dated: December 4, 2023.
For the Nuclear Regulatory Commission.
Jill S. Caverly,
Acting Chief, Environmental Project Management Branch 2, Division of Rulemaking, Environmental, and Financial Support, Office of Nuclear Material Safety, and Safeguards.

[FR Doc. 2023-26915 Filed 12-6-23; 8:45 am]

BILLING CODE 7590-01-P